DEPARTMENT OF STATE

[Public Notice: 12012]

60-Day Notice of Proposed Information Collection: State Assistance Management System (SAMS) Domestic Results Monitoring Module

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 13, 2023.

ADDRESSES:

You may submit comments by any of the following methods:

• Web: Persons with access to the internet may comment on this notice by going to www.Regulations.gov. You can search for the document by entering “Docket Number: DOS-2023-0009” in the Search field. Then click the “Comment Now” button and complete the comment form.

• Email: millerml@state.gov.

• Regular Mail: Send written comments to: Matthew Miller, Bureau of Administration, Office of Logistics Management, 1800 N.Kent Street, Arlington, VA 22209.

You must include the DS form number (if applicable), information collection title, and the OMB control number in any correspondence.

FOR FURTHER INFORMATION CONTACT: Direct requests for additional information regarding the collection listed in this notice, including requests for copies of the proposed collection instrument and supporting documents, to Matthew Miller, ServiceNow Team Lead, U.S. Department of State, Bureau of Administration, Office of Logistics Management (A/LM), Suite 1200, 1800 N Kent Street, Arlington, VA. He may be reached by phone at (703) 875-4317 or by email at millerml@state.gov.

SUPPLEMENTARY INFORMATION:

• Title of Information Collection: State Assistance Management System (SAMS) Domestic Results Monitoring Module.

• OMB Control Number: 1405-0183.

• Type of Request: Extension of a currently approved collection.

• Originating Office: Bureau of Administration, Office of Logistic Management (A/LM).

• Form Number: DS-4127.

• Respondents: Recipients of Department of State grants.

• Estimated Number of Respondents: 240.

• Estimated Number of Responses: 960.

• Average Time per Response: 20 hours.

• Total Estimated Burden Time: 19,200 hours.

• Frequency: Quarterly.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

In compliance with OMB Guidelines contained in 2 CFR 200, recipient organizations are required to provide, and the U.S. Department of State is required to collect, periodic program and financial performance reports. The responsibility of the Department to track and monitor the programmatic and financial performance necessitates a database that can help facilitate this in a consistent and standardized manner. The SAMS Domestic Results Monitoring Module enables enhanced monitoring and evaluation of grants through standardized collection and storage of relevant award elements, such as quarterly progress reports, workplans, results monitoring plans, grant agreements, and other business information related to implementers. The SAMS Domestic Results Monitoring Module streamlines communication with implementers and allows for rapid identification of information gaps for specific projects.

Methodology

Information will be electronically entered into SAMS Domestic by respondents.

Nathalie B. Stevens,
Division Director, Office of Logistic Management, Department of State.

[FR Doc. 2023-07874 Filed 4-13-23; 8:45 am]

BILLING CODE 4710-24-P